DEPARTMENT OF LABOR

Employment and Training Administration

Notice of Determinations Regarding Eligibility To Apply for Trade Adjustment Assistance

In accordance with the Section 223 (19 U.S.C. 2273) of the Trade Act of 1974 (19 U.S.C. 2271, et seq.) (“Act”), as amended, the Department of Labor herein presents summaries of determinations regarding eligibility to apply for trade adjustment assistance under Chapter 2 of the Act (“TAA”) for workers by (TA-W) number issued during the period of March 1, 2020 through March 31, 2020. (This Notice primarily follows the language of the Trade Act. In some places however, changes such as the inclusion of subheadings, a reorganization of language, or “and,” “or,” or other words are added for clarification.)

Section 222(a)—Workers of a Primary Firm

In order for an affirmative determination to be made for workers of a primary firm and a certification issued regarding eligibility to apply for TAA, the group eligibility requirements under Section 222(a) of the Act (19 U.S.C. 2272(a)) must be met, as follows:

(1) The first criterion (set forth in Section 222(a)(1) of the Act, 19 U.S.C. 2272(a)(1)) is that a significant number or proportion of the workers in such workers' firm (or “such firm”) have become totally or partially separated, or are threatened to become totally or partially separated;

AND (2(A) or 2(B) below)

(2) The second criterion (set forth in Section 222(a)(2) of the Act, 19 U.S.C. 2272(a)(2)) may be satisfied by either (A) the Increased Imports Path, or (B) the Shift in Production or Services to a Foreign Country Path/Acquisition of Articles or Services from a Foreign Country Path, as follows:

(A) Increased Imports Path

(i) the sales or production, or both, of such firm, have decreased absolutely;

AND (ii and iii below)

(ii) (I) imports of articles or services like or directly competitive with articles produced or services supplied by such firm have increased; OR

(II)(aa) imports of articles like or directly competitive with articles into which one or more component parts produced by such firm are directly incorporated, have increased; OR

(II)(bb) imports of articles like or directly competitive with articles which are produced directly using the services supplied by such firm, have increased; OR

(III) imports of articles directly incorporating one or more component parts produced outside the United States that are like or directly competitive with imports of articles incorporating one or more component parts produced by such firm have increased;

AND

(iii) the increase in imports described in clause (ii) contributed importantly to such workers' separation or threat of separation and to the decline in the sales or production of such firm; OR

(B) Shift in Production or Services to a Foreign Country Path OR Acquisition of Articles or Services From a Foreign Country Path

(i) (I) there has been a shift by such workers' firm to a foreign country in the production of articles or the supply of services like or directly competitive with articles which are produced or services which are supplied by such firm; OR

(II) such workers' firm has acquired from a foreign country articles or services that are like or directly competitive with articles which are produced or services which are supplied by such firm;

AND

(ii) the shift described in clause (i)(I) or the acquisition of articles or services described in clause (i)(II) contributed importantly to such workers' separation or threat of separation.

Section 222(b)—Adversely Affected Secondary Workers

In order for an affirmative determination to be made for adversely affected secondary workers of a firm and a certification issued regarding eligibility to apply for TAA, the group eligibility requirements of Section 222(b) of the Act (19 U.S.C. 2272(b)) must be met, as follows:

(1) A significant number or proportion of the workers in the workers' firm or an appropriate subdivision of the firm have become totally or partially separated, or are threatened to become totally or partially separated;

AND

(2) the workers' firm is a supplier or downstream producer to a firm that employed a group of workers who received a certification of eligibility under Section 222(a) of the Act (19 U.S.C. 2272(a)), and such supply or production is related to the article or service that was the basis for such certification (as defined in subsection 222(c)(3) and (4) of the Act (19 U.S.C. 2272(c)(3) and (4));

AND

(3) either—

(A) the workers' firm is a supplier and the component parts it supplied to the firm described in paragraph (2) accounted for at least 20 percent of the production or sales of the workers' firm; OR

(B) a loss of business by the workers' firm with the firm described in paragraph (2) contributed importantly to the workers' separation or threat of separation determined under paragraph (1).

Section 222(e)—Firms Identified by the International Trade Commission

In order for an affirmative determination to be made for adversely affected workers in firms identified by the International Trade Commission and a certification issued regarding eligibility to apply for TAA, the group eligibility requirements of Section 222(e) of the Act (19 U.S.C. 2272(e)) must be met, by following criteria (1), (2), and (3) as follows:

(1) The workers' firm is publicly identified by name by the International Trade Commission as a member of a domestic industry in an investigation resulting in—

(A) an affirmative determination of serious injury or threat thereof under section 202(b)(1) of the Act (19 U.S.C. 2252(b)(1)); OR

(B) an affirmative determination of market disruption or threat thereof under section 421(b)(1) of the Act (19 U.S.C. 2436(b)(1)); OR

(C) an affirmative final determination of material injury or threat thereof under section 705(b)(1)(A) or 735(b)(1)(A) of the Tariff Act of 1930 (19 U.S.C. 1671d(b)(1)(A) and 1673d(b)(1)(A));

AND

(2) the petition is filed during the 1-year period beginning on the date on which—

(A) a summary of the report submitted to the President by the International Trade Commission under section 202(f)(1) of the Trade Act (19 U.S.C. 2252(f)(1)) with respect to the affirmative determination described in paragraph (1)(A) is published in the Federal Register under section 202(f)(3) (19 U.S.C. 2252(f)(3)); OR

(B) notice of an affirmative determination described in subparagraph (B) or (C)of paragraph (1) is published in the Federal Register;

AND

(3) the workers have become totally or partially separated from the workers' firm within—

(A) the 1-year period described in paragraph (2); OR

(B) notwithstanding section 223(b) of the Act (19 U.S.C. 2273(b)), the 1-year period preceding the 1-year period described in paragraph (2).

Affirmative Determinations for Trade Adjustment Assistance

The following certifications have been issued. The date following the company name and location of each determination references the impact date for all workers of such determination.

The following certifications have been issued. The requirements of Section 222(a)(2)(A) (Increased Imports Path) of the Trade Act have been met.

TA-W No. | Subject firm | Location | Impact date
95,008 | Vie De France Yamazaki, Inc., Yamazaki Baking Co., Ltd | Vienna, VA | July 19, 2018.
95,008A | Vie De France Yamazaki, Inc., Alexandria Plant, Yamazaki Baking Co., Ltd | Alexandria, VA | July 19, 2018.
95,008B | Vie De France Yamazaki, Inc., Elmsford Cake Plant, Yamazaki Baking Co., Ltd | Elmsford, NY | July 19, 2018.
95,008C | Vie De France Yemazaki, Inc., Los Angeles Plant, Yamazaki Baking Co., Ltd., Aramark Management Services | Vernon, CA | July 19, 2018.
95,155 | Subtext LLC | Portland, OR | September 5, 2018.
95,212 | Fiber Innovators International, LLC, Durafibers, PolyQuest, Arthur Services, Personnel Services Unlimited | Grover, NC | September 23, 2018.
95,333 | Cameron International Corporation, Schlumberger Ltd, Guidant Global | Ville Platte, LA | October 28, 2018.
95,342 | Siemens Government Technologies, Inc., Dresser Rand, Walker Services, IT Tech Connexion Systems | Wellsville, NY | March 3, 2019.
95,377 | Modern Tool, Inc., Atlas Staffing, Inc., Platinum Staffing Group, Inc | Coon Rapids, MN | November 13, 2018.
95,391 | Alorica Inc | Mesa, AZ | November 19, 2018.
95,476 | St. John Knits, Inc., Corporate and Manufacturing Division, St. John Knits International, Inc | Irvine, CA | June 22, 2019.
95,518 | Corsicana Bedding, LLC, Accurate Personnel LLC | Barnesville, PA | December 27, 2018.
95,635 | Smiths Interconnect Americas, Inc., Smiths Group PLC | Costa Mesa, CA | January 30, 2019.

The following certifications have been issued. The requirements of Section 222(a)(2)(B) (Shift in Production or Services to a Foreign Country Path or Acquisition of Articles or Services from a Foreign Country Path) of the Trade Act have been met.

TA-W No. | Subject firm | Location | Impact date
94,353 | DXC Technology Company, DXC Technology Services LLC | Tysons, VA | November 20, 2017.
94,353A | Enterprise Services LLC, DXC Technology Company | Herndon, VA | November 20, 2017.
94,353B | Enterprise Services LLC, DXC Technology Company | Norfolk, VA | November 20, 2017.
94,353C | Enterprise Services LLC, DXC Technology Company | Stafford, VA | November 20, 2017.
94,353D | DXC Technology Services LLC | Richmond, VA | November 20, 2017.
94,353E | Computer Sciences Corporation (CSC), DXC Technology Company, 45154 Underwood Lane | Sterling, VA | November 20, 2017.
94,353F | Computer Sciences Corporation (CSC), DXC Technology Company, 22810 International Drive | Sterling, VA | November 20, 2017.
94,627 | Toppan Merrill LLC, Toppan Printing Co., Merrill Communications, Toppan Vintage, Randstad, etc | Century City, CA | March 12, 2018.
94,909 | The Safariland Group, Safariland, LLC, Arrow Staffing, Kinetic Staffing, Select Staffing | Ontario, CA | June 14, 2018.
95,073 | TechFive LLC, iQor US, Inc | Klamath Falls, OR | August 13, 2018.
95,103 | PPG Industries, Inc., Metokote Corporation, The Crown Group Co | Pittsburgh, PA | August 21, 2018.
95,103A | Metokote Corporation dba PPG Coatings Services, PPG Industries, Inc., The Crown Group Co | Peru, IL | August 21, 2018.
95,103B | The Crown Group Co. dba PPG Coatings Services, PPG Industries, Inc., Metokote Corporation | Asheboro, NC | August 21, 2018.
95,103C | Cuming Microwave Corporation, PPG Industries, Inc., Metokote Corporation, The Crown Group Co | Avon, MA | August 21, 2018.
95,103D | PPG Industries Ohio, Inc., Circleville Resins Plant, PPG Industries, Inc., Metokote Corporation, etc | Circleville, OH | August 21, 2018.
95,103E | PPG Architectural Finishes, Inc., PPG Industries, Inc., Metokote Corporation, The Crown Group Co | Cranberry Township, PA | August 21, 2018.
95,103F | PPG Industries Ohio, Inc., Delaware Plant, PPG Industries, Inc., Metokote Corporation, The Crown Group | Delaware, OH | August 21, 2018.
95,103G | The Crown Group Co. dba PPG Coatings Services, PPG Industries, Inc., Metokote Corporation | Detroit, MI | August 21, 2018.
95,103H | The Crown Group Co. dba PPG Coatings Services, PPG Industries, Inc., Metokote Corporation | East Moline, IL | August 21, 2018.
95,103I | Metokote Corporation dba PPG Coatings Services, PPG Industries, Inc., The Crown Group Co | Fort Valley, GA | August 21, 2018.
95,103J | The Crown Group Co. dba PPG Coating Services, PPG Industries, Inc., Metokote Corporation | Fort Wayne, IN | August 21, 2018.
95,103K | The Crown Group Co. dba PPG Coatings Services, PPG Industries, Inc., Metokote Corporation | Franklin, GA | August 21, 2018.
95,103L | The Crown Group Co. dba PPG Coatings Services, PPG Industries, Inc., Metokote Corporation | Greenville, SC | August 21, 2018.
95,103M | Metokote Corporation dba PPG Coatings Services, PPG Industries, Inc., The Crown Group Co | Dayton, OH | August 21, 2018.
95,103N | Metokote Corporation dba PPG Coatings Services, PPG Industries, Inc., The Crown Group Co | Lebanon, TN | August 21, 2018.
95,103O | Metokote Corporation dba PPG Coatings Services, PPG Industries, Inc., The Crown Group Co | Lima, OH | August 21, 2018.
95,103P | The Crown Group Co. dba PPG Coatings Services, PPG Industries, Inc., Metokote Corporation | Portland, TN | August 21, 2018.
95,103Q | Sem Products, Inc., PPG Industries, Inc., Metokote Corporation, Crown Group Co | Rock Hill, SC | August 21, 2018.
95,103R | The Crown Group Co. dba PPG Coatings Services, PPG Industries, Inc., Metokote Corporation | Shelby Township, MI | August 21, 2018.
95,103S | PPG Industries, Inc., Springdale Plant, Metokote Corporation, The Crown Group Co | Springdale, PA | August 21, 2018.
95,103T | Metokote Corporation dba PPG Coating Services, PPG Industries, Inc., The Crown Group Co | Sumter, SC | August 21, 2018.
95,103U | PPG Industries, Inc., Troy Automotive Technical Center, Metokote Corporation, The Crown Group Co | Troy, MI | August 21, 2018.
95,103V | The Crown Group Co. dba PPG Coatings Services, PPG Industries, Inc., Metokote Corporation | Waterloo, IA | August 21, 2018.
95,112 | Walmart, Inc., Global Business Services Division, Robert Half | Charlotte, NC | August 22, 2018.
95,134 | Johnson Controls Fire Protection LP, SimplexGrinnell, Service Request Resolution Department, etc | Westminster, MA | August 28, 2018.
95,139 | MACOM Technology Solutions Inc., MACOM Technology Solutions Holdings, Inc., Lightwave PE/TE R&D Division | Ithaca, NY | August 30, 2018.
95,180 | Johnson Controls International, Information Technology Group, Enterforce Inc | Westminster, MA | September 12, 2018.
95,238 | Thryv, Inc., Thryv Holdings, Inc | St. Petersburg, FL | September 30, 2018.
95,303 | JPMorgan Chase & Co., Commercial Banking—Client Data Management, etc | Brookfield, WI | October 20, 2018.
95,303A | JPMorgan Chase & Co., Commercial Banking—Client Data Management, etc | Neenah, WI | October 20, 2018.
95,417 | Qualfon Data Services Group, LLC | Idaho Falls, ID | November 21, 2018.
95,427 | Wyndham Vacation Ownership, Inc., Wyndham Destinations | Redmond, WA | November 14, 2018.
95,457 | The Bank of New York Mellon, Operations Technology, CSD Technology, The Bank of New York, WIPRO, etc | New York, NY | December 6, 2018.
95,457A | The Bank of New York Mellon, Operations Technology, CSD Technology, The Bank of New York Corporation | Oriskany, NY | December 6, 2018.
95,462 | SKF USA Inc | Hanover, PA | December 5, 2018.
95,473 | Author Solutions, LLC, GoDirect, LLC | Bloomington, IN | December 13, 2018.
95,479 | Molex, LLC, Medical Pharmaceutical Solutions, Little Rock Connector Plant, Aerotek, etc | Maumelle, AR | December 13, 2018.
95,482 | Treetop Commons, LLC | Portland, OR | December 13, 2018.
95,483 | Wells Fargo Bank N.A., Wells Fargo & Company, Payments, Virtual Solutions and Innovation, etc | Glen Allen, VA | December 13, 2018.
95,527 | Wells Fargo Bank N.A., Wells Fargo & Company, Payments, Virtual Solutions and Innovation, etc | Concord, CA | January 1, 2019.
95,528 | International Automotive Components (IAC), Noonan Group, Inc | Dayton, TN | January 2, 2019.
95,529 | ATI Holdings, LLC, Central Insurance Verification Department and Patient Advocate Department | Bolingbrook, IL | January 3, 2019.
95,531 | Mercari, Inc., TRG Customer Solutions d/b/a IBEX Global Solutions, TaskUs, Inc | Portland, OR | January 3, 2019.
95,539 | U.S. Bank National Association, Collections & Recovery and Consumer Advocacy Division, etc | Portland, OR | January 6, 2019.
95,542 | Honeywell International Inc | Atlanta, GA | January 7, 2019.
95,544 | Sanko Electronics America, Inc., Decton Staffing Services | Torrance, CA | January 7, 2019.
95,549 | MAS US Holdings Inc | Asheboro, NC | January 8, 2019.
95,550 | Branson Ultrasonics Corporation, Emerson Electronic Company, Willis Tower Watson Group, Aerotek, etc | Honeoye Falls, NY | January 9, 2019.
95,550A | Branson Ultrasonics Corporation, Emerson Electronic Company, Willis Tower Watson Group, Robert Half, etc | Danbury, CT | January 9, 2019.
95,551 | Kautex, Inc., Textron Division, Textron, Inc | Detroit, MI | January 9, 2019.
95,553 | Alcoa, Inc., Global Primary Products, CCC Group, Gardenland Nursery, G&W Engineers, etc | Point Comfort, TX | January 10, 2019.
95,565 | Optum Technology, Enterprise Enablement Platform Services, IT Services Desk, etc | Windsor, CT | January 14, 2019.
95,570 | Hutchinson Technology Incorporated, TDK, Masterson Staffing Solutions | Hutchinson, MN | May 19, 2020.
95,575 | Zions Bancorporation, N.A., Aerotek, Apex Systems, CompuGain, ConsultNet, Edge Services, etc | Salt Lake City, UT | January 16, 2019.
95,603 | Agilent Technologies, Inc., Biomolecular Analysis Division, Volt Workforce Solutions | Ankeny, IA | January 24, 2019.
95,611 | The Bank of New York Mellon, Global Custody & Cash Services, The Bank of New York Mellon, etc | New York, NY | January 27, 2019.
95,613 | Hudson's Bay Company, Store Staffing Division, Lord &amp; Taylor | Wilkes-Barre, PA | January 27, 2019.
95,619 | Concentrix | Arnold, MO | January 28, 2019.
95,625 | Schawk USA Inc., Matthews International Corporation, Manpower | Cincinnati, OH | January 27, 2019.
95,633 | Mohawk Industries, Wood and Laminate Division | Melbourne, AR | January 30, 2019.
95,634 | NDS Surgical Imaging, LLC, Randstad Staffing, Aerotek, ATR International Inc | San Jose, CA | January 30, 2019.
95,640 | J2 Cloud Services, LLC, Voice Division, J2 Global, Inc | Los Angeles, CA | February 3, 2019.
95,646 | Dometic Corporation, Americas Division, Dometic Holding AB, Pro Resources, etc | LaGrange, IN | February 4, 2019.
95,649 | Kaiser Foundation Health Plan of Washington, IT Compute Services & End User Services, Kaiser Foundation Health Plan, etc | Renton, WA | February 4, 2019.
95,656 | BancTec, Inc., BPO Group, Exela Technologies, Inc | Irving, TX | February 5, 2019.
95,657 | Frontier Communications, Network Operations Center (NOC) Tier II Time-Division, etc | Allen, TX | February 5, 2019.
95,657A | Frontier Communications, Network Operations Center (NOC) Tier II Time-Division, etc | Irving, TX | February 5, 2019.
95,659 | Lovelace Health System, Shared Services/Division Office, Ardent Health Service | Albuquerque, NM | February 5, 2019.
95,668 | Parallon Employer LLC, HCA Healthcare, Medical Coding Team | Nashville, TN | February 6, 2019.
95,688 | Eaton Corporation, Vehicle Group North America, Quaker Houghton Fluid Care, etc | Shenandoah, IA | April 18, 2020.
95,694 | Unique-Chardan, Inc., Unique Fabricating, Elwood Staffing, Staffmark, Career Integration, etc | Bryan, OH | February 13, 2019.
95,712 | Confluent Medical Technologies, Ryzen Solutions | Campbell, CA | February 20, 2019.
95,721 | Fabtex, Inc., PeopleReady | Orange, CA | February 21, 2019.
95,722 | Futuredontics Inc | Los Angeles, CA | February 21, 2019.
95,727 | Darex, LLC, Express Employment Professionals | Ashland, OR | February 24, 2019.
95,728 | Dell Products L.P., Network Hardware Team, Dell, Inc | Santa Clara, CA | January 24, 2019.
95,733 | Carestream Health, Inc., Technical Support Unit | Rochester, NY | February 25, 2019.
95,743 | Flowmaster Mufflers, Holley Performance Products, Aerotek, Horizon Personnel Services, etc | West Sacramento, CA | February 26, 2019.
95,745 | L.L.Bean, Inc., Compunnel Software Group, NTT DATA Services, Prosearch, etc | Freeport, ME | February 27, 2019.
95,747 | Navex Global, Inc., Navex Global Holding Company | Rexburg, ID | February 27, 2019.
95,751 | DENSO Air Systems Michigan, Inc., Thermal Division, WSI, OnStaff USA | Battle Creek, MI | February 28, 2019.
95,755 | International Automotive Components (IAC), Madisonville Plant, PeoplePlus, Manpower, Custom Staffing | Madisonville, KY | March 2, 2019.
95,757 | Mondelez Global LLC | Hanover Township, PA | March 2, 2019.
95,766 | Modern Transmission Development Company, Hamilton-Ryker | Leitchfield, KY | March 3, 2019.
95,770 | Thermo Ramsey LLC, Thermo Fisher Scientific, Chemical Analysis, Workspend, DCR Workforce | Minneapolis, MN | March 3, 2019.
95,771 | Aventri, Inc., ITN, Inc., Advanced Resources | Norwalk, CT | March 5, 2019.
95,780 | Temp-Flex, L.L.C., Molex, LLC, CoWorx Staffing Agency | South Grafton, MA | March 4, 2019.
95,785 | Senior Aerospace AMT, Terra Staffing Group, CADstar International, Orion International, etc | Arlington, WA | March 6, 2019.
95,786 | Arauco North America, Inc., Eugene Oregon MDF Mill, Arauco Canada Limited | Eugene, OR | March 6, 2019.
95,804 | Imperial Health LLP | Lake Charles, LA | March 10, 2019.
95,811 | OptumRX, Avella Revenue Cycle Management, United Healthcare Services Inc | Phoenix, AZ | March 12, 2019.

The following certifications have been issued. The requirements of Section 222(b) (supplier to a firm whose workers are certified eligible to apply for TAA) of the Trade Act have been met.

TA-W No. | Subject firm | Location | Impact date
94,252 | Faurecia Automotive Seating, Inc | Auburn Hills, MI | October 19, 2017.
94,876 | General Motors Global Propulsion Systems, General Motors Company | Pontiac, MI | June 5, 2018.
95,072 | General Motors Pontiac Metal Center, General Motors, Jones Lang LaSalle-Building Maintenance, Eurest-Janitorial | Pontiac, MI | August 5, 2018.
95,296 | Leadec Corporation | Warren, OH | October 31, 2019.
95,378 | Winona PVD Coatings, LLC | Warsaw, IN | November 14, 2018.
95,399 | Georgia-Pacific Panel Products, LLC, Particleboard Division, Georgia-Pacific, Koch Industries, etc | Hope, AR | November 20, 2018.
95,526 | Parkdale Mills, Inc., Plant 22, Parkdale America, LLC, Parkdale, Inc., Defender Services, Inc | Galax, VA | December 21, 2018.
95,526A | Parkdale Mills, Inc., Plant 23, Parkdale America, LLC, Parkdale, Inc., Defender Services, Inc | Landis, NC | December 21, 2018.
95,569 | Almatis, Inc., Oyak Group | Leetsdale, PA | January 16, 2019.
95,604 | Atlas Aerospace, LLC | Wichita, KS | January 24, 2019.
95,605 | Cox Machine Inc., Summit Employment Professionals, The Arnold Group | Wichita, KS | January 24, 2019.
95,639 | Android Industries, 2053 division, Focus: HOPE Companies, Inc | Detroit, MI | October 31, 2019.
95,639A | Express Employment Professionals, Android Industries, 2053 division | Detroit, MI | February 3, 2019.
95,670 | LMI Aerospace, Inc., Aerotek, ATSI, Beacon Hill | Cottonwood Falls, KS | February 7, 2019.
95,687 | Axiom Engineering, LaborMax | Wichita, KS | February 13, 2019.
95,787 | Arconic, AAC Hutchinson Division | Hutchinson, KS | March 6, 2019.
95,818 | Regal Beloit Corporation, Power Transmission Solutions, Sterling Engineering, Aerotek, Express, etc | Valparaiso, IN | March 16, 2019.

The following certifications have been issued. The requirements of Section 222(b) (downstream producer to a firm whose workers are certified eligible to apply for TAA) of the Trade Act have been met.

TA-W No. | Subject firm | Location | Impact date
95,600 | Siletz Trucking Company Corporation | Independence, OR | January 23, 2019.

The following certifications have been issued. The requirements of Section 222(e) (firms identified by the International Trade Commission) of the Trade Act have been met.

TA-W No. | Subject firm | Location | Impact date
95,615 | Restwell Mattress Co | Eden Prairie, MN | December 12, 2018.
95,616 | Sleep Number Corporation | Minneapolis, MN | December 12, 2018.
95,627 | Comfort Holding, LLC operating as Innocor, Inc., BCPE INCR Holding Inc, Onin Staffing, Elite Staffing | West Chicago, IL | December 12, 2018.
95,628 | Corsicana Bedding, LLC, ClearStaff Inc., Express Employment Professionals | Aurora, IL | December 12, 2018.
95,638 | FXI, Inc., FXI Holdings, Inc., Terra Staffing, Express Employment Professionals | Portland, OR | December 12, 2018.

Negative Determinations for Worker Adjustment Assistance

In the following cases, the investigation revealed that the eligibility criteria for TAA have not been met for the reasons specified.

The investigation revealed that the requirements of Trade Act section 222 (a)(1) and (b)(1) (significant worker total/partial separation or threat of total/partial separation), or (e) (firms identified by the International Trade Commission), have not been met.

TA-W No. | Subject firm | Location | Impact date
95,456 | Artech Information Systems, IT Project Manager-GTS Group, Artech, LLC | Morristown, NJ
95,511 | Artech LLC, IT Support-GTS Group, Artech Government Services | Morristown, NJ
95,572 | Tektronix, Inc., Vanderhouwen & Associates, Creative Financial Staffing, etc | Beaverton, OR
95,606 | Optum Technology, Data Solutions, United Healthcare (UHC) Asset Development, etc | Rocky Hill, CT
95,738 | Precision Aluminum, Inc | Wadsworth, OH
95,757A | Mondelez Global LLC | East Hanover, NJ

The investigation revealed that the criteria under paragraphs (a)(2)(A)(i) (decline in sales or production, or both), or (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
94,577 | PiRod, Inc., Engineering Support Structures (ESS) division, Valmont Industries, Inc | Salem, OR
95,237 | John Deere Coffeyville Works, Inc., Deere & Company | Coffeyville, KS

The investigation revealed that the criteria under paragraphs(a)(2)(A) (increased imports), (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
94,821 | NYDJ Production, LLC, NYDJ Apparel, LLC | Vernon, CA
94,889 | Xerox Corporation, Collabera, Computer Task Group, InSync Staffing, Paladin Consulting, etc | Wilsonville, OR
94,906 | General Motors Milford Proving Ground, Vehicle Development Department, General Motors, Allegis Global Services | Milford, MI
95,039 | Lexington Lighting Group LLC, HW Staffing Solutions | Rumford, RI
95,052 | AT&T Services, Inc., Technology Development, Process & Tools for System Development, AT&T Inc | Schaumburg, IL
95,076 | The Bank of New York Mellon, Technology Services Group—Digital On-Site Support, etc | Uniondale, NY
95,138 | Conduent Commercial Solutions, LLC, Conduent Business Services, LLC | Tigard, OR
95,149 | AIG PC Global Services, Inc., General Insurance IT Production Services, New York, etc | New York, NY
95,221 | Manitou Equipment America, LLC, CEP Division, Manitou America Holding, Inc., ESG | Madison, SD
95,269 | Clever-Brooks, Inc., Engineered Boiler Systems Division | Lincoln, NE
95,288 | Hand Held Products, Inc., Honeywell International, Inc | Cedar Rapids, IA
95,307 | Fred's Distribution Center, Highway 257 location, Advantage Resourcing | Dublin, GA
95,307A | Fred's Store 1538, US 80 location | East Dublin, GA.
95,310 | Shawnee Tubing Industries, LLC, Express Personnel Services | Shawnee, OK
95,379 | Lundbeck Seattle BioPharmaceuticals, Inc., Alder BioPharmaceuticals, Lundbeck, NuWest Search Partners, etc | Bothell, WA
95,440 | Gerdau | Duluth, MN
95,487 | Nestle Prepared Foods Company, Direct Store Delivery, Nestle USA, Inc | Jonesboro, AR
95,525 | Optum Technology, United Healthcare Technology, Employer & Individual Software Dev., etc | Hartford, CT
95,525A | Optum Technology, Enterprise Enablement Platform Services, Enterprise Architecture, etc | Hartford, CT
95,532 | Nestle Dreyers Ice Cream Company and Nestle Prepared Foods Company, Direct Store Delivery, Nestle USA, Inc | Kalamazoo, MI
95,532A | Nestle Dreyers Ice Cream Company and Nestle Prepared Foods Company, Direct Store Delivery, Nestle USA, Inc | Plymouth, MI
95,532B | Nestle Dreyers Ice Cream Company and Nestle Prepared Foods Company, Direct Store Delivery, Nestle USA, Inc | Cadillac, MI
95,532C | Nestle Dreyers Ice Cream Company and Nestle Prepared Foods Company, Direct Store Delivery, Nestle USA, Inc | Gaylord, MI
95,532D | Nestle Dreyers Ice Cream Company and Nestle Prepared Foods Company, Direct Store Delivery, Nestle USA, Inc | Saginaw, MI
95,532E | Nestle Dreyers Ice Cream Company and Nestle Prepared Foods Company, Direct Store Delivery, Nestle USA, Inc | Lansing, MI
95,532F | Nestle Dreyers Ice Cream Company and Nestle Prepared Foods Company, Direct Store Delivery, Nestle USA, Inc | Grand Rapids, MI
95,532G | Nestle Dreyers Ice Cream Company and Nestle Prepared Foods Company, Direct Store Delivery, Nestle USA, Inc | Fort Wayne, IN
95,540 | Applied Materials, AGS Training Services, GP Strategies, Adecco Employment Service | Kalispell, MT
95,547 | Cognizant Technology Solutions U.S. Corporation, Digital Operations Division, Cognizant Technology Solutions Corporation | Mountain View, CA
95,559 | Allianz Life Insurance Company of North America, Workforce Transformation and Analytics, Allianz of America, Inc., etc | Minneapolis, MN.
95,580 | Philadelphia Energy Solutions Refining and Marketing LLC, PES Administrative Services LLC, Project Control Services Inc., etc | Philadelphia, PA
95,720 | Seneca Food Corporation | Rochester, MN

Determinations Terminating Investigations of Petitions for Trade Adjustment Assistance

After notice of the petitions was published in the Federal Register and on the Department's website, as required by Section 221 of the Act (19 U.S.C. 2271), the Department initiated investigations of these petitions.

The following determinations terminating investigations were issued because the petitioner has requested that the petition be withdrawn.

The following determinations terminating investigations were issued because the petitioner has requested that the petition be withdrawn.

TA-W No. | Subject firm | Location | Impact date
95,641 | Leo D. Bernstein & Sons, Inc., DBA Bernstein Display | Shaftsbury, VT
95,711 | UTC Aerospace | Chula Vista, CA

The following determinations terminating investigations were issued in cases where the petition regarding the investigation has been deemed invalid.

TA-W No. | Subject firm | Location | Impact date
95,323 | ProLogistix, Harley-Davidson Motor Company Operations, Inc., etc | Kansas City, MO

The following determinations terminating investigations were issued because the worker group on whose behalf the petition was filed is covered under an existing certification.

TA-W No. | Subject firm | Location | Impact date
95,095 | Absolute Consulting, Entergy Nuclear Operations, Inc., Pilgrim Nuclear Power Station | Plymouth, MA
95,113 | Walmart, Inc., Global Business Services Division | Charlotte, NC
95,314 | GDI Integrated Facility Services, Harley-Davidson Motor Company Operations, Inc., etc | Kansas City, MO
95,318 | Syncreon US, Inc., Harley-Davidson Motor Company Operations, Inc., etc | Kansas City, MO
95,319 | Kelly Services, Inc., Harley-Davidson Motor Company Operations, Inc., etc | Kansas City, MO
95,445 | Comprehensive Decommissioning International, Entergy Nuclear Operations, Inc., Pilgrim Nuclear Power Station | Plymouth, MA
95,618 | Branson Ultrasonics Corporation | Danbury, CT
95,651 | Rosenberger North America | Plano, TX
95,655 | Dun & Bradstreet, Editorial Department | Austin, TX
95,704 | Standard Insurance Company, The Standard Life Insurance Company, Volt, Robert Half | Portland, OR

The following determinations terminating investigations were issued because the petitioning group of workers is covered by an earlier petition that is the subject of an ongoing investigation for which a determination has not yet been issued.

TA-W No. | Subject firm | Location | Impact date
95,328 | The Yankee Candle Company, Newell Brands, Inc., Newell Operating Company, A Delaware Corporation | South Deerfield, MA
95,374 | Formativ Health Management Inc | Jacksonville, FL
95,475 | Pancon Corporation | Temecula, CA
95,644 | Petrobras America Inc | Houston, TX
95,709 | Qualfon Data Services Group, LLC | Idaho Falls, ID

I hereby certify that the aforementioned determinations were issued during the period of March 1, 2020 through March 31, 2020. These determinations are available on the Department's website https://www.doleta.gov/tradeact/petitioners/taa_search_form.cfm under the searchable listing determinations or by calling the Office of Trade Adjustment Assistance toll free at 888-365-6822.

Signed at Washington, DC, this 10th day of April 2020.
Hope D. Kinglock,
Certifying Officer, Office of Trade Adjustment Assistance.

[FR Doc. 2020-08520 Filed 4-21-20; 8:45 am]

BILLING CODE 4510-FN-P